DEPARTMENT OF THE INTERIOR

National Park Service

Environmental Statements; Notice of Intent: Canaveral National Seashore, FL; General Management Plan

AGENCY: National Park Service.

ACTION: Notice of intent to prepare a draft environmental impact statement for the general management plan for Canaveral National Seashore, Titusville, Florida.

SUMMARY: Pursuant to section 102 (2)(c) of the National Environmental Policy Act of 1969 and the National Park Service (NPS) Director's Orders 2 and 12, the NPS will prepare a Draft Environmental Impact Statement (EIS) for the General Management Plan for Canaveral National Seashore. The EIS will assess potential environmental impacts associated with various types and levels of visitor use and resource management within the Seashore. Some of the issues include: Developing adequate facilities for interpretation and visitor protection; Addressing increased visitation; Protection of vulnerable aquatic resources; Assessing transportation and picnicking needs; Considering and assessing cooperative ventures with civic and academic and government entities; Evaluating the adaptive use of former retained use estates.

DATES: The NPS will conduct public scoping meetings in the local area (Titusville or New Smyrna Beach) to receive input from interested parties on issues, concerns, and suggestions pertinent to the management of Canaveral National Seashore. Suggestions and ideas for managing the cultural and natural resources and visitor experiences at Canaveral National Seashore are encouraged. Locations, dates, and times of public scoping meetings will be published in local newspapers and may also be obtained by contacting the park. This information will also be published on the General Management Plan web site for Canaveral National Seashore at http://www.nps.gov/cana. The comment period for each of these meetings will be announced at the meetings and will be published on the Canaveral National Seashore General Management Plan Web site at http://www.nps.gov/cana.

ADDRESSES: Scoping suggestions should be submitted to the following address to ensure adequate consideration by the Service: Superintendent, Canaveral National Seashore, 308 Julia Street, Titusville, FL 32796.

FOR FURTHER INFORMATION CONTACT: Superintendent, Canaveral National Seashore, 308 Julia Street, Titusville, FL 32796. Telephone: (321) 267-1110.

SUPPLEMENTARY INFORMATION: A General Management Plan was completed for Canaveral National Seashore in 1981. Many changes have occurred since that time and the plan is in need of revision. Several new areas have been opened for visitation and the park is facing critical issues not addressed in the 1981 General Management Plan. The Draft and Final General Management Plan and Environmental Impact Statement will be made available to all known interested parties and appropriate agencies. Full public participation by federal, state, and local agencies, as well as other concerned organizations and private citizens, is invited throughout the preparation process of this document.

Our practice is to make the public comments we receive in response to planning documents, including names and home addresses of respondents, available for public review during regular business hours. If you wish for us to withhold your name and/or address, you must state this prominently at the beginning of your comment. Anonymous comments will be included in the public record. However, the National Park Service is not legally required to consider or respond to anonymous comments. We will make all submissions from organizations or businesses, including individuals identifying themselves as representatives or officials of organizations or businesses, available for public inspection in their entirety.

The responsible official for this Environmental Impact Statement is Jerry Belson, Regional Director, Southeast Region, National Park Service, 100 Alabama Street SW, 1924 Building, Atlanta, Georgia 30303.

Dated: September 6, 2002.
W. Thomas Brown,
Acting Regional Director, Southeast Region.

[FR Doc. 02-32169 Filed 12-20-02; 8:45 am]

BILLING CODE 4310-70-P